DEPARTMENT OF THE INTERIOR

Bureau of Safety and Environmental Enforcement

[Docket ID BSEE-2015-0005; OMB Control Number 1014-0024; 15XE1700DX EEEE500000 EX1SF0000.DAQ000]

Information Collection Activities: Plans and Information; Proposed Collection; Comment Request

ACTION: 60-Day notice.

SUMMARY: To comply with the Paperwork Reduction Act of 1995 (PRA), BSEE is inviting comments on a collection of information that we will submit to the Office of Management and Budget (OMB) for review and approval. The information collection request (ICR) concerns a renewal to the paperwork requirements in the regulations under Subpart B, Plans and Information.

DATES: You must submit comments by July 21, 2015.

ADDRESSES: You may submit comments by either of the following methods listed below.

• Electronically go to http://www.regulations.gov. In the Search box, enter BSEE-2015-0005 then click search. Follow the instructions to submit public comments and view all related materials. We will post all comments.

• Email cheryl.blundon@bsee.gov. Mail or hand-carry comments to the Department of the Interior; Bureau of Safety and Environmental Enforcement; Regulations and Standards Branch; ATTN: Cheryl Blundon; 45600 Woodland Road, Sterling, VA 20166. Please reference ICR 1014-0024 in your comment and include your name and return address.

FOR FURTHER INFORMATION CONTACT: Cheryl Blundon, Regulations and Standards Branch at (703) 787-1607 to request additional information about this ICR.

SUPPLEMENTARY INFORMATION:

Title: 30 CFR part 250, subpart B, Plans and Information.

OMB Control Number: 1014-0024.

Abstract: The Outer Continental Shelf (OCS) Lands Act, as amended (43 U.S.C. 1334), authorizes the Secretary of the Interior to prescribe rules and regulations necessary for the administration of the leasing provisions of that act related to mineral resources on the OCS. Such rules and regulations will apply to all operations conducted under a lease, right-of-use and easement, or unit. Operations on the OCS must preserve, protect, and develop oil and natural gas resources in a manner that is consistent with the need to make such resources available to meet the Nation's energy needs as rapidly as possible; to balance orderly energy resource development with protection of human, marine, and coastal environments; to ensure the public a fair and equitable return on the resources of the OCS; and to preserve and maintain free enterprise competition.

In addition to the general rulemaking authority of the OCSLA at 43 U.S.C. 1334, section 301(a) of the Federal Oil and Gas Royalty Management Act (FOGRMA), 30 U.S.C. 1751(a), grants authority to the Secretary to prescribe such rules and regulations as are reasonably necessary to carry out FOGRMA's provisions. While the majority of FOGRMA is directed to royalty collection and enforcement, some provisions apply to offshore operations. For example, section 108 of FOGRMA, 30 U.S.C. 1718, grants the Secretary broad authority to inspect lease sites for the purpose of determining whether there is compliance with the mineral leasing laws. Section 109(c)(2) and (d)(1), 30 U.S.C. 1719(c)(2) and (d)(1), impose substantial civil penalties for failure to permit lawful inspections and for knowing or willful preparation or submission of false, inaccurate, or misleading reports, records, or other information. Because the Secretary has delegated some of the authority under FOGRMA to BSEE, 30 U.S.C. 1751 is included as additional authority for these requirements.

The Independent Offices Appropriations Act (31 U.S.C. 9701), the Omnibus Appropriations Bill (Pub. L. 104-133, 110 Stat. 1321, April 26, 1996), and OMB Circular A-25, authorize Federal agencies to recover the full cost of services that confer special benefits. Under the Department of the Interior's implementing policy, the Bureau of Safety and Environmental Enforcement (BSEE) is required to charge fees for services that provide special benefits or privileges to an identifiable non-Federal recipient above and beyond those which accrue to the public at large. Deepwater Operations Plans are subject to cost recovery, and BSEE regulations specify a service fee for this request.

Regulations implementing these responsibilities are among those delegated to BSEE. The regulations under 30 CFR 250, Subpart B, pertain to plans and information that are either submitted to BSEE and/or reviewed by BSEE.

We use the information under § 250.282, we analyze the information to verify that an ongoing/completed OCS operation is/was conducted in compliance with established environmental standards placed on the activity. Under §§ 250.286-295 we analyze and evaluate the information to ensure that planned operations are safe; will not adversely affect the marine, coastal, or human environment; and will conserve the resources of the OCS. We use the information to make an informed decision on whether to approve the proposed deepwater operations plans (DWOPs), or whether modifications are necessary without the analysis and evaluation of the required information.

No questions of a sensitive nature are asked. We protect proprietary information according to the Freedom of Information Act (5 U.S.C. 552) and DOI's implementing regulations (43 CFR 2); 30 CFR 250.197, Data and information to be made available to the public or for limited inspection; and 30 CFR part 252, OCS Oil and Gas Information Program. Responses are mandatory or are required to obtain or retain a benefit.

Frequency: On occasion.

Description of Respondents: Potential respondents comprise Federal oil, gas, or sulphur lessees and/or operators.

Estimated Reporting and Recordkeeping Hour Burden: The currently approved annual reporting burden for this collection is 18,256 hours. In this submission, we are requesting a total of 37,084 burden hours and $39,589 non-hour cost burdens. The following chart details the individual components and respective hour burden estimates of this ICR. In calculating the burdens, we assumed that respondents perform certain requirements in the normal course of their activities. We consider these to be usual and customary and took that into account in estimating the burden.

Citation 30 CFR 250 Subpart B and NTLs | Reporting and recordkeeping requirement * | Non-hour cost burdens *: Hour burden | Non-hour cost burdens *: Average number of annual responses annual | Non-hour cost burdens *: Burden hours
201; 204; 205 | General requirements for plans and information; service fees; confirmations; etc | Burden included with specific requirements below. |  | 0
Post-Approval Requirements for the EP, DPP, and DOCD
[for BSEE apps/permits which include drilling, workovers, production, pipelay, facility installation, and decommissioning, etc.]
282 282(b) | Retain monitoring data/information; upon request, make available to BSEE Submit monitoring plan for approval. Submit monitoring reports and data. | All information that is submitted from industry is received by BOEM. Industry's hour burdens for these regulatory requirements are covered under 30 CFR 550, subpart B, 1010-0151. BSEE's Environmental Compliance Program reviews all monitoring plans and reports to verify industry's compliance.
Submit DWOPs and Conceptual Plans
287; 291; 292 | Submit DWOP and accompanying/supporting information | 1,140 | 11 plans | 12,540
|  | $3,599 × 11 = $39,589
288; 289 | Submit a Conceptual Plan for approval | 375 | 8 plans | 3,000
294 | Submit a combined Conceptual Plan/DWOP for approval before deadline for submitting Conceptual Plan | 748 | 27 plans | 20,196
295 | Submit a revised Conceptual Plan or DWOP for approval within 60-day of material change | 180 | 7 plan revisions | 1,260
Subtotal |  |  | 53 responses | 36,96
|  |  | $39,589 non-hour costs.
200 thru 295 | General departure and alternative compliance requests not specifically covered elsewhere in subpart B regulations | 8 | 11 requests | 88
Subtotal |  |  | 11 responses | 88
Total Burden |  |  | 399 responses | 37,084
|  |  | $39,589 Non-hour cost burdens.
* In the future, BSEE may require electronic filing of some submissions.

Estimated Reporting and Recordkeeping Non-Hour Cost Burden: We have identified one non-hour cost associated with this ICR; DWOP's ($3,599) under § 250.292, and estimate that the total annual non-hour cost burden is $39,589. We have not identified any other non-hour cost burdens associated with this collection of information.

Public Disclosure Statement: The PRA (44 U.S.C. 3501, et seq.) provides that an agency may not conduct or sponsor a collection of information unless it displays a currently valid OMB control number. Until OMB approves a collection of information, you are not obligated to respond.

Comments: Before submitting an ICR to OMB, PRA section 3506(c)(2)(A) requires each agency “. . . to provide notice . . . and otherwise consult with members of the public and affected agencies concerning each proposed collection of information . . .”. Agencies must specifically solicit comments to: (a) Evaluate whether the collection is necessary or useful; (b) evaluate the accuracy of the burden of the proposed collection of information; (c) enhance the quality, usefulness, and clarity of the information to be collected; and (d) minimize the burden on the respondents, including the use of technology.

Agencies must also estimate the non-hour paperwork cost burdens to respondents or recordkeepers resulting from the collection of information. Therefore, if you have other than hour burden costs to generate, maintain, and disclose this information, you should comment and provide your total capital and startup cost components or annual operation, maintenance, and purchase of service components. For further information on this burden, refer to 5 CFR 1320.3(b)(1) and (2), or contact the Bureau representative listed previously in this notice.

We will summarize written responses to this notice and address them in our submission for OMB approval. As a result of your comments, we will make any necessary adjustments to the burden in our submission to OMB.

Public Comment Procedures: Before including your address, phone number, email address, or other personal identifying information in your comment, you should be aware that your entire comment—including your personal identifying information—may be made publicly available at any time. While you can ask us in your comment to withhold your personal identifying information from public review, we cannot guarantee that we will be able to do so.

Dated: May 14, 2015.
Douglas W. Morris,
Chief, Office of Offshore Regulatory Programs.

[FR Doc. 2015-12300 Filed 5-21-15; 8:45 am]

BILLING CODE 4310-VH-P